DEPARTMENT OF THE INTERIOR

Fish and Wildlife Service

Public Meeting on the Harvest and Export of American Ginseng

AGENCY: Fish and Wildlife Service, Interior.

ACTION: Announcement of meeting.

SUMMARY: This notice announces the time and place for a public meeting on American ginseng (Panax quinquefolius). In preparation of the U.S. Fish and Wildlife Service's current and future finding for the export of American ginseng, we are particularly interested in obtaining any current information on the status of American ginseng in the wild. We will discuss the Federal regulatory framework for the export of American ginseng and how these regulations control the international trade of this plant. We will also discuss the different CITES definitions as they are applied to American ginseng grown under different production systems and how these systems affect the export of ginseng roots.

DATES: The public meeting will be held on May 21, 2003, from 9 a.m. to 4 p.m., in Lexington, Kentucky.

ADDRESSES:

Public Meeting

The public meeting will be held at the Holiday Inn North, 1950 Newton Pike, Lexington, Kentucky. Directions to the meeting location can be obtained by contacting the Division of Scientific Authority or the Division of Management Authority (see FOR FURTHER INFORMATION CONTACT, below) or by visiting our World Wide Web site: http://international.fws.gov/animals/ginindx/.html. Please note that the location is accessible to the handicapped, and all persons planning to attend the meeting will be required to present photo identification when entering the building. Persons planning to attend the meeting who require interpretation for the hearing impaired must notify the Division of Scientific Authority as soon as possible (see FOR FURTHER INFORMATION CONTACT, below).

Available Information

Information from the U.S. Fish and Wildlife Service's American ginseng workshop, held in St. Louis, Missouri, February 19-21, 2003, is available upon request from the Division of Scientific Authority or the Division of Management Authority (see FOR FURTHER INFORMATION CONTACT, below), a copy of the workshop report will be available from our World Wide Web site http://international.fws.gov/animals/ginindx/. The purpose of the workshop was to meet with representatives of State and Federal agencies, as well as to recount the results of new research by academics, on the status and management of American ginseng and the CITES export program for the species. We worked cooperatively with representatives of these State and Federal agencies to develop recommendations to improve the management and the CITES export program of this plant.

FOR FURTHER INFORMATION CONTACT: Mr. Robert R. Gabel, Chief, Division of Scientific Authority, U.S. Fish and Wildlife Service, 4401 N. Fairfax Drive, Room 750, Arlington, VA 22203; e-mail at scientificauthority@fws.gov; fax: 703-358-2276; or Dr. Peter O. Thomas, Chief, Division of Management Authority, U.S. Fish and Wildlife Service, 4401 N. Fairfax Drive, Room 700, Arlington, VA 22203; e-mail at: managementauthority@fws.gov; fax: 703-358-2298.

SUPPLEMENTARY INFORMATION:

Background

The Convention on International Trade in Endangered Species of Wild Fauna and Flora (CITES or Convention) is an international treaty designed to control and regulate international trade in certain animal and plant species that are now or potentially may be threatened with extinction by international trade. These species are listed in Appendices to CITES, copies of which are available from the Division of Scientific Authority or the Division of Management Authority at the above addresses, from our World Wide Web site http://international.fws.gov, or from the official CITES Secretariat World Wide Web site: http://www.cites.org/. Currently, 161 countries, including the United States, are Parties to CITES. American ginseng (Panax quinquefolius) was listed in appendix II of CITES on July 1, 1975. The Division of Scientific Authority and the Division of Management Authority of the U.S. Fish and Wildlife Service regulate the export of American ginseng, including whole plants, whole roots, and root parts. To meet CITES requirements for export of American ginseng from the United States, the Division of Scientific Authority must determine that the export will not be detrimental to the survival of the species, and the Division of Management Authority must be satisfied that the American ginseng roots to be exported were legally acquired.

Since the inclusion of American ginseng in CITES appendix II, the Divisions of Scientific Authority and Management Authority have issued findings on a State-by-State basis. To determine whether or not to approve exports of American ginseng, the Division of Scientific Authority has annually reviewed available information from various sources (other Federal agencies, State regulatory agencies, industry and associations, nongovernmental organizations, and academic researchers) on the biology and trade status of the species. After a thorough review, the Division of Scientific Authority makes a non-detriment finding and the Division of Management Authority makes a legal acquisition finding on the export of American ginseng to be harvested during the year in question. As of 1999, the Division of Scientific Authority has included in its non-detriment findings for the export of wild (including wild-simulated) American ginseng roots an age-based restriction (i.e., plants must be at least 5 years old).

States with harvest programs for wild and/or cultivated American ginseng include: Alabama, Arkansas, Georgia, Idaho, Illinois, Indiana, Iowa, Kentucky, Maine, Maryland, Michigan, Minnesota, Missouri, New York, North Carolina, North Dakota, Ohio, Oregon, Pennsylvania, Tennessee, Vermont, Virginia, Washington, West Virginia, and Wisconsin.

During the week of February 17, 2003, the Divisions of Scientific Authority and Management Authority hosted an American ginseng workshop in St. Louis, Missouri, with representatives of State and Federal agencies that regulate the plant to discuss the status and management of American ginseng and the CITES export program for the species. The workshop provided an important opportunity for representatives of the States and Federal agencies to work cooperatively to develop recommendations to improve the management and the CITES export program of this plant. In anticipation of this year's and future findings, we are now seeking public input on the wild status, production, and export of American ginseng. In particular, we are most interested in any new information on wild ginseng, and the production and export of wild-simulated and woods-grown American ginseng.

Author

The primary author of this notice is Patricia Ford, the Division of Scientific Authority, U.S. Fish and Wildlife Service.

Dated: March 27, 2003.
Marshall P. Jones Jr.,
Acting Director.

[FR Doc. 03-9987 Filed 4-22-03; 8:45 am]

BILLING CODE 4310-55-P